DEPARTMENT OF HOMELAND SECURITY

Office of the Secretary

6 CFR Part 37

Transportation Security Administration

49 CFR Chapter XII

Terminology Relating to Sex; Technical Amendments

AGENCY: Transportation Security Administration, DHS.

ACTION: Final rule; technical amendments.

SUMMARY: This document makes nomenclature changes to sections of the Code of Federal Regulations (CFR) administered by the Transportation Security Administration (TSA). This action is necessary to conform with the Executive order of January 20, 2025 (Defending Women from Gender Ideology Extremism and Restoring Biological Truth to the Federal Government).

DATES: This rule is effective as of May 21, 2025.

FOR FURTHER INFORMATION CONTACT: John “Neal” Latta, Assistant Administrator, Enrollment Services and Vetting Programs; Transportation Security Administration; telephone: (571) 227-4995; email: SecureFlightRuleChanges@tsa.dhs.gov.

SUPPLEMENTARY INFORMATION: You can find an electronic copy of this rule using the internet by accessing the Government Publishing Office's web page at https://www.govinfo.gov/app/collection/FR to view the daily published Federal Register edition or by accessing the Office of the Federal Register's web page at https://www.federalregister.gov. Copies are also available by contacting the individual identified in the FOR FURTHER INFORMATION CONTACT section.

Discussion of the Rule

This final rule makes technical amendments to certain sections of the CFR. Section 3(c) of Executive Order 14168 of January 20, 2025 (Defending Women from Gender Ideology Extremism and Restoring Biological Truth to the Federal Government), requires Federal agencies to use the term “sex” and not “gender” in all applicable agency policies and documents. In compliance with this section of the Executive order, this technical amendment replaces the term “gender” with “sex” wherever it appears in TSA's regulations.

Table 1 identifies the context for each change in 6 CFR part 37

Table 1—Revisions to 6 CFR Part 37
Section | Description of regulatory requirement | Specific terminology change
37.17(c) | Information that must appear on the surface of a REAL ID driver's license or identification card to be accepted by Federal agencies | Section 37.17(c) will be revised as follows: “Sex, as determined by the State.”
37.17(m) | Printed information on REAL ID driver's licenses and identification cards | “The , , , sex . . . on the face of the card must be in Latin alpha-numeric characters. . . .”
37.19(e) | Machine-readable technology minimum data elements | “Sex.”

Table 2 identifies the context for each change in 49 CFR part 1500.

Table 2—Revisions to 49 CFR Part 1500
Section | Description of regulatory requirement | Specific terminology change
1500.5(a) | General statement on rules of construction for TSA's regulations | Section 1500.5(a)(3) will be revised as follows: “Words importing the masculine sex include the feminine.”

Table 3 identifies the context for each change in 49 CFR part 1540.

Table 3—Revisions to 49 CFR Part 1540
1540.107(b) | Information that must be submitted for flight reservations | Section 1540.107(b) will be revised as follows: “An individual must provide his or her full name, as defined in § 1560.3 of this chapter, date of birth, and sex when—. . .”
1540.203(c) | Categories of information that must be submitted by aircraft operators for security threat assessments | Section 1540.203(c)(5) will be revised as follows: “Sex.”

Table 4 identifies the context for each change in 49 CFR part 1560.

Table 4—Revisions to 49 CFR Part 1560
1560.3 | Definitions of passport information applicable to the Secure Flight program | Definition in Section 1560.3 will be revised as follows: “Passport information . . . , , , (4) Sex. . . .
|  | Definition in Section 1560.3 will be revised as follows: Secure Flight Passenger Data or (SFPD) . . . (3) Sex. . . .”
1560.101(a)(1) | Information to be requested from passengers by aircraft operators for purposes of Secure Flight Program | Section 1560.101(a)(1) will be revised as follows: “Each covered aircraft operator must request the full . . . sex . . . For reservations made 72 hours prior to the scheduled time of departure . . . sex . . . For an individual that makes a reservation for a covered flight within 72 . . . sex . . .”
1560.101(a)(3) | Information to be requested from passengers by aircraft operators for purposes of Secure Flight Program | Section 1560.101(a)(3) will be revised as follows: “Each covered aircraft operator . . . sex.”

Table 5 identifies the context for each change in 49 CFR part 1572.

Table 5—Revisions to 49 CFR Part 1572
1572.9(a) | Categories of information that must be submitted for a Hazardous Materials Endorsement (HME) security threat assessment | Section 1572.9(a)(4) will be revised as follows: “Sex.”
1572.17(a) | Categories of information that must be submitted for a Transportation Worker Identification Credential (TWIC) security threat assessment | Section 1572.17(a)(4) will be revised as follows: “Sex.”

These technical revisions are limited to changing the term in TSA's regulations to comply with section 3(c) of the Executive order. TSA is continuing to assess its need for, and use of, information that identifies sex. Specific use cases will be addressed separately from the technical amendments in this rulemaking.

The Administrative Procedure Act (APA) (5 U.S.C. 553(B)(3)(b)) provides that when an agency for good cause finds that notice and public procedure are impracticable, unnecessary, or contrary to the public interest, an agency may issue a rule without providing notice and an opportunity for public comment. TSA has determined that there is good cause for making this technical amendment final without prior proposal and opportunity for comment because the revisions are not substantive and will have no impact on the regulatory requirements in the affected parts. TSA has determined that public comment on such administrative changes is unnecessary and that there is good cause under the APA for proceeding with a final rule.

TSA has also determined that this rule is exempt from the notice and comment requirement under the APA because it is a rule of agency organization, procedure, or practice. (See 5 U.S.C. 553(b)(A)) Because the rule is simply an administrative change that replaces terminology without altering the rights or interests of parties, it has no substantive effect on the regulatory requirements and places no stamp of approval or disapproval on any type of behavior. Accordingly, TSA is issuing this rule in its final form as a procedural rule.

Further, because a notice of proposed rulemaking and opportunity for public comment are not required for this rule under the APA or any other law, the analytical requirements of the Regulatory Flexibility Act (5 U.S.C. 601 et seq.) are not applicable. Accordingly, this rule is issued in final form.

Before a rule can take effect, the Congressional Review Act (CRA), as codified at 5 U.S.C. 801-808, requires Federal agencies to submit the rule and a report to Congress and the Comptroller General indicating whether it is a major rule. Under 5 U.S.C. 804(3)(C), rules of agency organization, procedure, or practice that do not substantially affect the rights or obligations of non-agency parties are not considered rules for the purposes of the CRA. This technical amendment is a rule of agency organization, procedure, or practice that will not substantially affect the rights or obligations of non-agency parties. Thus, TSA is not required to submit the rule for review under the CRA.

List of Subjects

6 CFR Part 37

Classified information, Freedom of information, Licensing and registration, Motor vehicle safety, Motor vehicles, Personally-identifiable information, Privacy, Reporting and recordkeeping requirements, Security measures.

49 CFR Part 1500

Air carriers, Air transportation, Aircraft, Airports, Buses, Hazardous materials transportation, Law enforcement officers, Maritime carriers, Mass transportation, Railroad safety, Railroads, Reporting and recordkeeping requirements, Security measures, Transportation, Vessels.

49 CFR Part 1540

Air carriers, Airports, Aviation safety, Law enforcement officers, Reporting and recordkeeping requirements, Security measures.

49 CFR Part 1560

Air transportation, Law enforcement officers, Reporting and recordkeeping requirements, Security measures.

49 CFR Part 1572

Crime, Explosives, Hazardous materials transportation, Motor carriers, Railroads, Reporting and recordkeeping requirements, Security measures.

The Amendments

For the reasons stated in the preamble, the Transportation Security Administration amends chapter I of title 6, and chapter XII of title 49, Code of Federal Regulations, as follows:

PART 37—REAL ID DRIVER'S LICENSES AND IDENTIFICATION CARDS

1. The authority citation for part 37 continues to read as follows:

Authority: 49 U.S.C. 30301 note; 6 U.S.C. 111, 112.

§ 37.17 [Amended]

2. In § 37.17:

a. Amend paragraph (c) by removing the word “Gender” and adding, in its place, “Sex” and

b. Amend paragraph (m) by removing the word “gender” and adding, in its place, “sex”.

§ 37.19 [Amended]

3. In § 37.19, amend paragraph (e) by removing the word “Gender” and adding, in its place, “Sex”.

PART 1500—APPLICABILITY, TERMS, AND ABBREVIATIONS

4. The authority citation for part 1500 continues to read as follows:

Authority: 49 U.S.C. 114, 5103, 40113, 44901-44907, 44913-44914, 44916-44918, 44935-44936, 44939, 44942, 46105; Pub. L. 110-53 (121 Stat. 266, Aug. 3, 2007) secs. 1408 (6 U.S.C. 1137), 1501 (6 U.S.C. 1151), 1517 (6 U.S.C. 1167), and 1534 (6 U.S.C. 1184).

§ 1500.5 [Amended]

5. In § 1500.5, amend paragraph (a)(3) by removing the word “gender” and adding, in its place, “sex”.

PART 1540—CIVIL AVIATION SECURITY: GENERAL RULES

6. The authority citation for part 1540 continues to read as follows:

Authority: 49 U.S.C. 114, 5103, 40113, 44901-44907, 44913-44914, 44916-44918, 44925, 44935-44936, 44942, 46105.

§ 1540.107 [Amended]

7. In § 1540.107, amend paragraph (b) by removing the word “gender” and adding, in its place, “sex”.

§ 1540.203 [Amended]

8. In § 1540.203, amend paragraph (c)(5) by removing the word “Gender” and adding, in its place, “Sex”.

PART 1560—SECURE FLIGHT PROGRAM

9. The authority citation for part 1560 continues to read as follows:

Authority: 49 U.S.C. 114, 40113, 44901, 44902, 44903.

§ 1560.3 [Amended]

10. In § 1560.3, amend this section by removing the word “gender” wherever it appears and adding, in its place, “sex”.

§ 1560.101 [Amended]

11. In § 1560.101, amend paragraphs (a)(1) and (3) by removing the word “gender” wherever it appears and adding, in its place, “sex”.

PART 1572—CREDENTIALING AND SECURITY THREAT ASSESSMENTS

12. The authority citation for part 1572 continues to read as follows:

Authority: 46 U.S.C. 70105; 49 U.S.C. 114, 5103a, 40113, and 46105; 18 U.S.C. 842, 845; 6 U.S.C. 469.

§ 1572.9 [Amended]

13. In § 1572.9, amend paragraph (a)(4) by removing the word “Gender” and adding, in its place, “Sex”.

§ 1572.17 [Amended]

14. In § 1572.17, amend paragraph (a)(4) by removing the word “Gender” and adding, in its place, “Sex”.

Dated: May 13, 2025.
Ha Nguyen McNeill,
Acting Administrator, Transportation Security Administration.

[FR Doc. 2025-08920 Filed 5-20-25; 8:45 am]

BILLING CODE 9110-05-P